DEPARTMENT OF AGRICULTURE

Commodity Credit Corporation

Soil and Water Conservation Assistance

AGENCY: Commodity Credit Corporation, USDA.

ACTION: Notice of Availability of Program Funds for Soil and Water Conservation Assistance.

SUMMARY: This notice announces the availability of funds for Soil and Water Conservation Assistance (SWCA) to implement Section 211(b), Title II, of the Agricultural Risk Protection Act of 2000 Public Law 106-224. The Commodity Credit Corporation (CCC) administers the funds under the general supervision of a Vice President of the CCC who is the Chief of the Natural Resources Conservation Service (NRCS). Section 211(b) authorizes the Secretary of Agriculture to use the funds for soil, water, and related natural resources conservation purposes in areas that have not been designated as conservation priority areas under section 1230(c) of the Food Security Act of 1985 (16 U.S.C. 3830(c)).

DATES: Funds will be available from June 6, 2001 to September 30, 2001, unless they are obligated sooner.

ADDRESSES: Address all comments to: Conservation Operations Division, Natural Resources Conservation Service, P.O. Box 2890, Washington, D.C. 20013-2890.

FOR FURTHER INFORMATION CONTACT: Mark W. Berkland, Director, or Gary Gross, SWCA Program Manager, Conservation Operations Division, Natural Resources Conservation Service, P.O. Box 2890, Washington, D.C. 20013, (202) 720-1845, fax: 202-720-4265. Submit electronic comments to: mark.berkland@usda.gov or gary.gross@usda.gov.

SUPPLEMENTARY INFORMATION:

Background

Section 211(b), Title II, of the Agricultural Risk Protection Act of 2000, (Pub. L. 106-224, June 22, 2000), 16 U.S.C. 3830 note, authorizes the Secretary of Agriculture (Secretary) to use funds of CCC to provide financial assistance to farmers and ranchers to address threats to soil, water, and related natural resources, including grazing land, wetland, and wildlife habitat; comply with Federal and State environmental laws; and make beneficial, cost-effective changes to cropping systems, grazing management, manure, nutrient, pest, or irrigation management, land uses, or other measures needed to conserve and improve soil, water, and related natural resources. Assistance under this section may be made in the form of cost-share payments or incentive payments, as determined by the Secretary. A total of $20 million is being made available for Section 211(b) in fiscal year 2001.

Section 211(b) authorizes the Secretary of Agriculture to use the funds to provide assistance in areas that are not designated as conservation priority areas under section 1230(c) of the Food Security Act of 1985 (16 U.S.C. 3830(c)). These are areas that are outside of designated priority areas of the Conservation Reserve Program, Environmental Quality Incentives Program, and the Wetlands Reserve Program.

The Chief of NRCS, on behalf of CCC, will determine the funds available to the States for financial and technical assistance.

The NRCS State Conservationist, in consultation with the State Technical Committee (established under 16 U.S.C. 3861), will determine eligible practices using a locally led process. Eligible conservation practices will be those practices that meet the provisions of Section 211(b), as previously outlined.

There will be a continuous signup period, with ranking cutoff dates as determined by the State Conservationist in consultation with the State Technical Committee.

The State Conservationist, in consultation with the State Technical Committee, will select applications based on State-developed ranking criteria and a ranking process, that takes into account local and state priorities. The State Conservationist may also delegate the selection of applications to a local designated conservationist who will work in consultation with the local USDA Work Group.

SWCA Requirements

CCC will accept applications throughout the year. The State Conservationist, working with cooperating agencies and organizations, will distribute information on the availability of assistance and the State-specific goals. Information will be provided that explains the process to request assistance.

Applicants must own or control the land for which assistance is being sought and agree to implement specific eligible conservation practices on the land. There will be a 5 to 10 year cost-share agreement period to install eligible practices. Cost-share practices need to be maintained for the life of the practice. The maximum payment to any one participant under SWCA is $50,000.

The Federal share of cost-share payments will be 75 percent of the cost of an eligible practice(s) based on percent of actual cost, percent of actual cost with not-to-exceed limits, flat rates, or average costs as determined by the State Conservationist. Producers will be paid upon certification of completion of the approved practice(s). Producers may contribute to the application of a cost-share practice through in-kind contributions. Eligible in-kind contributions include: personal labor; use of personal equipment; donated labor or materials; and use of on-hand or approved used materials that meet the requirements for the practice to be installed. In no instance shall the total financial contributions for an eligible practice from all public and private entity sources exceed 100 percent of the actual cost of the practice. Cost-share or incentive payments will not be made to a participant who has applied or initiated the application of a conservation practice prior to approval of the cost-share agreement.

Eligible participants must have control of the land for the life of the cost share agreement period. An exception may be made by the Chief of NRCS in the case of land allotted by the Bureau of Indian Affairs (BIA), tribal land, or other instances in which the Chief of NRCS determines that there is sufficient assurance of control; or the applicant is a tenant of the land involved in agricultural production and the applicant provides CCC with the written concurrence of the landowner in order to apply an eligible practice(s).

Eligible land includes land used as agricultural land on which NRCS determines that assistance is needed to address threats to soil, water, and related natural resources, including grazing land, wetland, and wildlife habitat; comply with Federal and State environmental laws; and make beneficial, cost-effective changes to cropping systems, grazing management, manure, nutrient, pest, or irrigation management, land uses, or other measures needed to conserve and improve soil, water, and related natural resources. Additionally, land may only be considered for enrollment in SWCA if NRCS determines that the land is privately-owned, or if publicly-owned, where the land is under private control for the length of the cost-share agreement and is included in the participant's operating unit. The conservation practices installed on public land must contribute to an improvement in the identified natural resource concern as well as benefit private land. The applicant must provide CCC with written authorization from the government landowner to apply the conservation practices. Land that is federally recognized Tribal, BIA allotted, or Indian trust land may be considered for enrollment in SWCA.

Applicants must submit an application (CCC—1200 form) to CCC to be considered for participation in SWCA. Any producer who has eligible land may obtain and submit an application for participation in SWCA at an USDA service center. Producers who are members of a joint operation shall file a single application for the joint operation. A NRCS conservationist will work with the applicant to collect the information necessary to evaluate the application using the ranking criteria.

Conservation Plan Requirement

A conservation plan is required for the area to be included in the SWCA cost-share agreement and becomes the basis for developing the cost share agreement. The conservation plan must be acceptable to NRCS; be approved by the local conservation district; be signed by the participant, designated conservationist, and the conservation district; and clearly identify the conservation practices that will be cost shared with SWCA funds and the non-cost-shared practices needed in the conservation plan.

Cost-Share Agreement Requirements

Participants will enter into a cost-share agreement to implement eligible conservation practices. A SWCA cost share agreement will cover, as a minimum, the eligible land that influences, or is influenced by, the conservation practices being installed, and be for a duration of 5 to 10 years.

Cost-share agreements will incorporate all provisions as required by law or statute, including requirements to not conduct any practices on the farm or ranch unit of concern that would tend to defeat the purposes of the cost-share agreement; refund to CCC any SWCA payments received, with interest, and forfeit any future payments under SWCA on the violation of a term or condition of the cost-share agreement; refund all SWCA payments received on the transfer of the right and interest of the producer in land subject to the cost-share agreement, unless the transferee of the right and interest agrees to assume all obligations of the cost-share agreement; and supply information as required by CCC to determine compliance with the cost-share agreement and requirements of SWCA. The participant and NRCS must certify that a conservation practice is completed in accordance with the cost-share agreement before CCC will approve any cost-share payments.

With respect to land under a SWCA cost-share agreement which is inherited during the cost share agreement period, the $50,000 limitation per participant will not apply to the extent that the payments from any cost-share agreements on the inherited land cause an heir, who was party to a SWCA cost-share agreement on other lands prior to the inheritance, to exceed the limit.

With regard to cost-share agreements on tribal land, Indian trust land, or BIA allotted land, payments exceeding the $50,000 limitation may be made to the tribal venture if an official of the BIA or tribal official certifies in writing that no one participant directly or indirectly will receive more than the limitation.

Conservation Practice Operation and Maintenance

The cost-share agreement will provide for the operation and maintenance of the conservation practices applied under the cost-share agreement. The participant will operate and maintain the conservation practices for their intended purposes as agreed-to as part of the cost-share agreement, and form CCC—1245, Practice Approval and Payment Application.

Additional Requirements and Information

Additional requirements and information pertaining to SWCA cost-share agreements, administrative requirements, and other matters can be found on form CCC-1200, Conservation Program Contract, and the appendix to form CCC-1200, both of which are available at local USDA service centers.

Civil Rights

NRCS and CCC have collected civil rights data on farmers/ranchers participating in conservation programs. Based on past participation, it is estimated that the funding being made available with this notice will not negatively or disproportionately affect minorities, women, or persons with disabilities who are program beneficiaries or applicants for program benefits in NRCS or CCC assisted programs.

Environmental Evaluation

This assistance, administered by NRCS, will be funded at a level for 2001 as determined by the Secretary. Depending on the level of funding, and based on the participation in existing soil and water conservation programs, it is estimated that this assistance could result in approximately 1000 cost-share agreements. On each farm or ranch, during the conservation planning process, the environmental effects of any proposed actions are evaluated on a case-by-case basis. That evaluation is used to determine whether further environmental analysis is required. Accordingly, neither an Environmental Assessment nor an Environmental Impact Statement has been prepared for this notice.

Signed in Washington, D.C., on, May 23, 2001.
Thomas A. Weber,
Deputy Chief for Programs, Natural Resources Conservation Service.

[FR Doc. 01-14150 Filed 6-5-01; 8:45 am]

BILLING CODE 3410-16-P